DEPARTMENT OF AGRICULTURE

Forest Service

National Urban and Community Forestry Advisory Council

AGENCY: Forest Service, U.S. Department of Agriculture, (USDA).

ACTION: Notice of meeting.

SUMMARY: The National Urban and Community Forestry Advisory Council will meet on June 4, 5, and 6, 2013. The meeting will be held in Denver, CO. at the Webb Municipal and the Denver City/County Buildings. The purpose of this meeting is to introduce new members, develop the 2014 work plan, develop the 2015 grant categories, listen to local constituents urban forestry concerns, prepare for the 10-year action plan revisions, receive Forest Service budget and program updates, and initiate the 2013 accomplishment/recommendations report.

DATES: The meeting will be held on June 4 at the Webb Muncipal Building and on June 5 and 6 at the Denver City/County Building from 9:00 a.m. to 5:00 p.m. or until Council business is completed.

ADDRESSES: The meeting on June 4 will be held at the Webb Municipal Building, 201 West Colfax Ave., Denver, CO. The meeting on June 5 and 6 will be held at the Denver City/County Building, 1437 Bannock Street C, Denver, CO.

Written comments concerning this meeting should be addressed to Nancy Stremple, Executive Staff, National Urban and Community Forestry Advisory Council, 1400 Independence Ave. SW., MS-1151, Washington, DC 20250-1151. Comments may also be sent via email to nstremple@fs.fed.us, or via facsimile to 202-690-5792.

All comments, including names and addresses when provided, are placed in the record and are available for public inspection and copying. Visitors wishing to view these documents are encouraged to call ahead to facilitate entry into the USDA Forest Service temporary location: 1621 North Kent Street, RPE Building, 9th floor, Rosslyn,VA 22209.

FOR FURTHER INFORMATION CONTACT: Nancy Stremple, Executive Staff, National Urban and Community Forestry Advisory Council, 1400 Independence Ave. SW., MS-1151, Washington, DC, desk phone 202-205-7829, or cell phone 202-309-9873, email: nstremple@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. Those interested in attending should contact Nancy Stremple to be placed on the meeting attendance list and to facilitate entrance to the Webb Municipal and the Denver City/County Buildings. Council discussion is limited to Forest Service staff and Council members; however, persons who wish to bring urban and community forestry matters to the attention of the Council may file written statements with the Council Executive Staff (1400 Independence Ave. SW., MS-1151, Washington, DC 20250-1151, email: nstremple@fs.fed.us) before or after the meeting. Public input sessions will be provided at the meeting.

Dated: May 23, 2013.
Paul Ries,
Associate Deputy Chief, State and Private Forestry.

[FR Doc. 2013-12863 Filed 5-29-13; 8:45 am]

BILLING CODE 3410-11-P